DEPARTMENT OF COMMERCE

National Oceanic and Atmospheric Administration

[RTID 0648-XA260]

Endangered and Threatened Species; Take of Anadromous Fish

AGENCY: National Marine Fisheries Service (NMFS), National Oceanic and Atmospheric Administration (NOAA), Department of Commerce.

ACTION: Notice of availability.

SUMMARY: Notice is hereby given that a proposed evaluation and pending determination (PEPD), draft environmental assessment (EA), and four Hatchery and Genetic Management Plans (HGMP) are available for public comment on hatchery programs in the Touchet River, Umatilla River, Deschutes River, and Hood River Basins. The HGMPs were submitted for review and determination under the Endangered Species Act (ESA) 4(d) Rule.

DATES: Comments must be received at the appropriate address (see ADDRESSES) no later than 5 p.m. Pacific time on August 13, 2020. Comments received after this date may not be considered.

ADDRESSES: Written responses should be addressed to the NMFS Sustainable Fisheries Division, 1201 NE Lloyd Blvd., Portland, OR 97232. Comments may be submitted by email. The mailbox address for providing email comments is: Hatcheries.Public.Comment@noaa.gov. Include in the subject line of the email comment the following identifier: Mid-Columbia Hatchery Comments.

FOR FURTHER INFORMATION CONTACT: Rich Turner at (503) 736-4737 or by email at rich.turner@noaa.gov.

SUPPLEMENTARY INFORMATION:

ESA-Listed Species Covered in This Notice

• Lower Columbia River Chinook Salmon (Oncorhynchus tshawytscha): Threatened, naturally and artificially propagated

• Middle Columbia River Steelhead (O. mykiss): Threatened, naturally and artificially propagated

• Lower Columbia River Steelhead (O. mykiss): Threatened, naturally and artificially propagated

• Lower Columbia River Coho Salmon (O. kisutch): Threatened, naturally and artificially propagated

• Columbia River Chum Salmon (O. keta): Threatened, naturally and artificially propagated

Background

Section 9 of the ESA and Federal regulations prohibit the “taking” of a species listed as endangered or threatened. The term “take” is defined under the ESA to mean harass, harm, pursue, hunt, shoot, wound, kill, trap, capture, or collect, or to attempt to engage in any such conduct. NMFS may make exceptions to the take prohibitions in section 9 of the ESA for programs that are approved by NMFS under the 4(d) Rule (50 CFR 223.203(b)(6)).

The Confederated Tribes of the Warm Springs Reservation Oregon and the Oregon Department of Fish and Game (ODFW) have submitted HGMPs for two programs in the Hood River—spring Chinook salmon and winter steelhead—under Limit 6 of the 4(d) Rule; these programs are funded by the Bonneville Power Administration (BPA), and are evaluated in the PEPD. The United States Fish and Wildlife Service (USFWS) and the Washington Department of Fish and Wildlife submitted the Touchet River Endemic Summer Steelhead HGMP under Limit 5 of the 4(d) Rule. The ODFW submitted the Umatilla River Summer Steelhead HGMP, the Round Butte Hatchery Spring Chinook Salmon, and the Round Butte Hatchery Summer Steelhead programs in the Deschutes River under Limit 5 of the 4(d) Rule. The Umatilla Hatchery program, as well as a small proportion of the Round Butte Hatchery programs, is funded by the BPA, with the remainder of these programs funded by Portland General Electric.

Prior to making a final determination on the submitted plans, NMFS must take comments on how the HGMPs address the criteria in Limit 5 or Limit 6, as applicable, of the 4(d) Rule. NMFS is also taking comments on the evaluation in the draft EA of the effects of NMFS' pending decisions.

The submitted HGMPs describe the hatchery programs along with the associated monitoring and evaluation activities. The programs integrate natural-origin adult into the broodstock to supplement natural salmon populations (the exception is the Round Butte Spring Chinook Salmon program that only uses returning hatchery adults for broodstock). The programs are intended to provide fishing opportunities for tribes and states, mitigate for fish losses caused by the construction and operation of the dams on the Lower Snake River, mainstem Columbia River and Deschutes River and contribute to the survival and recovery of Middle Columbia River and Lower Columbia River steelhead, and Lower Columbia River spring Chinook salmon.

Authority: 16 U.S.C. 1531 et seq.; 16 U.S.C. 742a et seq.

Dated: July 7, 2020.
Angela Somma,
Chief, Endangered Species Division, Office of Protected Resources, National Marine Fisheries Service.

[FR Doc. 2020-15036 Filed 7-13-20; 8:45 am]

BILLING CODE 3510-22-P